DEPARTMENT OF HEALTH AND HUMAN SERVICES

Centers for Disease Control and Prevention

[Request for Application (RFA) AA032]

Duchene and Becker Muscular Dystrophy Education and Outreach Initiative; Notice of Intent To Fund Single Eligibility Award

A. Purpose

The Purpose of the program is to begin a coordinated education and outreach initiative on Duchenne and Becker Muscular Dystrophy (DMBD). This program addresses the “Healthy People 2010” focus area 6: Promote the health of people with disabilities, prevent secondary conditions, and eliminate disparities between people with and without disabilities in the U.S. population.

The Catalog of Federal Domestic Assistance number for this program is 93.067.

B. Eligible Applicant

Assistance will be provided only to Parent Project Muscular Dystrophy, Middletown, Ohio. No other applications are solicited. H.R. Conf. Rep. No. 108-792, Division F, Title II, Department of Health and Human Services, Center for Disease Control and Prevention (2005) specified funds to this organization.

C. Funding

Approximately $500,000 is available in FY 2005 to fund this award. It is expected that the award will begin on or before August 31, 2005, and will be made for a 12-month budget period within a project period of up to 12 months. Funding estimates may change.

D. Where To Obtain Additional Information

For general comments or questions about this announcement, contact: Technical Information Management Section, CDC Procurement and Grants Office, 2920 Brandywine Road, Atlanta, GA 30341, Telephone: 770-488-2700.

For technical questions about this program, contact: Michael A. Brown Project Officer, Centers for Disease Control and Prevention (CDC), National Center on Birth Defects and Developmental Disabilities, Division of Human Development and Disability, 1600 Clifton Road, NE., Mailstop E-88, Atlanta, GA 30333, Telephone: 404-498-3006, E-mail: MABrown@cdc.gov.

William P. Nichols,
Director, Procurement and Grants Office, Centers for Disease Control and Prevention.

[FR Doc. 05-10540 Filed 5-25-05; 8:45 am]

BILLING CODE 4163-18-P